DEPARTMENT OF HOMELAND SECURITY

Federal Emergency Management Agency

[Docket ID FEMA-2014-0002]

Changes in Flood Hazard Determinations

AGENCY: Federal Emergency Management Agency, DHS.

ACTION: Final notice.

SUMMARY: New or modified Base (1% annual-chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Arizona:
Maricopa (FEMA Docket No.: B-1362) | City of Peoria (12-09-3053P) | The Honorable Bob Barrett, Mayor, City of Peoria, 9875 North 85th Avenue, Peoria, AZ 85345 | 9875 North 85th Avenue, Peoria, AZ 85345 | March 7, 2014 | 040050
Maricopa (FEMA Docket No.: B-1362) | City of Phoenix (12-09-3053P) | The Honorable Greg Stanton, Mayor, City of Phoenix, 200 West Washington Street, 5th Floor, Phoenix, AZ 85003 | 200 West Washington Street, 5th Floor, Phoenix, AZ 85003 | March 7, 2014 | 040051
Maricopa (FEMA Docket No.: B-1362) | City of Goodyear (13-09-0919P) | The Honorable Georgia Lord Mayor, City of Goodyear, 190 North Litchfield Road, Goodyear, AZ 85338 | 119 North Litchfield Road Goodyear, AZ 85338 | February 21, 2014 | 040046
Maricopa (FEMA Docket No.: B-1362) | Unincorporated Areas of Maricopa County (13-09-0919P) | The Honorable Max Wilson, Chairman, Maricopa County Board of Supervisors, 301 West Jefferson 10th Floor Phoenix, AZ 85003 | Flood Control District of Maricopa County, 2801 West Durango Street, Phoenix, AZ 85009 | February 21, 2014 | 040037
Colorado:
El Paso (FEMA Docket No.: B-1362) | City of Colorado Springs (13-08-0369P) | The Honorable Steve Bach Mayor, City of Colorado Springs, 30 South Nevada Avenue, Colorado Springs, CO 80903 | 30 South Nevada Avenue, Colorado Springs, CO 80903 | January 17, 2014 | 080060
El Paso (FEMA Docket No.: B-1362) | Unincorporated areas of El Paso County (13-08-0369P) | The Honorable Dennis Hisey, Chairperson, Board of El Paso County Commissioners, 200 South Cascades Avenue, Suite 100, Colorado Springs, CO 80903 | Regional Building Department, 101 West Costilla Street, Colorado Springs, CO 80903 | January 17, 2014 | 080059
El Paso (FEMA Docket No.: B-1362) | City of Manitou Springs (13-08-0369P) | The Honorable Marc A. Snyder, Mayor, City of Manitou Springs, 606 Manitou Avenue, Manitou Springs, CO 80829 | City Hall, 606 Manitou Avenue, Manitou Springs, Colorado, 80829 | January 17, 2014 | 080063
Idaho:
Bannock (FEMA Docket No.: B-1362) | Unincorporated Areas of Bannock County (13-10-0060P) | The Honorable Karl E. Anderson, Chairman, Bannock County Commissioners, 624 East Center Street, Pocatello, ID 83201 | Bannock County Office of Planning and Development, 130 North 6th Avenue, Suite C, Pocatello, ID 83201 | December 13, 2013 | 160009
Bannock (FEMA Docket No.: B-1362) | City of Pocatello (13-10-0060P) | The Honorable Brian S. Blad, Mayor, City of Pocatello, 911 North 7th Avenue, Pocatello, ID 83201 | 911 North 7th Avenue, Pocatello, ID 83201 | December 13, 2013 | 160012
Custer (FEMA Docket No.: B-1362) | Unincorporated Areas of Custer County (13-10-0157P) | The Honorable Wayne Butts, Chairman, Custer County Board of Commissioners, Post Office Box 385, Challis, ID 83226 | County Courthouse, 801 East Main Street, Challis, ID 83226 | January 17, 2014 | 160211
Ada (FEMA Docket No.: B-1362) | City of Meridian (13-10-1349P) | The Honorable Dave Case, Chairman, Ada County, Board of Commissioners, 200 West Front Street, Boise, ID 83702 | Public Works Department, 33 East Broadway Avenue, Meridian, ID 83642 | February 18, 2014 | 160180
Ada (FEMA Docket No.: B-1362) | Unincorporated Areas of Ada County (13-10-1349P) | The Honorable Tammy de Weerd, Mayor, City of Meridian, 33 East Broadway Avenue, Suite 300, Meridian, ID 83642 | Public Works Department, 33 East Broadway Avenue, Meridian, ID 83642 | February 18, 2014 | 160001
Indiana: LaGrange (FEMA Docket No.: B-1362) | Unincorporated Areas (13-05-7473P) | The Honorable Jac Price, President, LaGrange County Board of Commissioners, LaGrange County Annex Building, 114 West Michigan Street, LaGrange, IN 46761 | 114 West Michigan Street, LaGrange, IN 46761 | November 21, 2013 | 180125
Illinois: Kane (FEMA Docket No.: B-1362) | Unincorporated Areas of Kane County (13-05-6235P) | The Honorable Chris Lauzen, Kane County Board Chairman, 719 Batavia Avenue, Building A, Geneva, IL 60134 | Kane County Government Center, Building A, Water Resources Department, 719 Batavia Avenue, Geneva, IL 60134 | January 8, 2014 | 170896
Iowa: Black Hawk (FEMA Docket No.: B-1362) | City of Cedar Falls (13-07-1063P) | The Honorable Jon Crews, Mayor, City of Cedar Falls, 220 Clay Street, Cedar Falls, IA 50613 | 220 Clay Street, Cedar Falls, IA 50613 | November 18, 2013 | 190017
Kansas: Johnson (FEMA Docket No.: B-1362) | City of Overland Park (13-07-1416P) | The Honorable Carl Gerlach, Mayor, City of Overland Park, 8500 Santa Fe Drive, Overland Park, KS 66212 | 8500 Santa Fe Drive, Overland Park, KS 66212 | March 5, 2014 | 200174
Massachusetts: Hampden (FEMA Docket No.: B-1362) | City of Holyoke (13-01-2049P) | The Honorable Alex B. Morse, Mayor, City of Holyoke, 536 Dwight Street, Holyoke, MA 01040 | City Hall 536 Dwight Street, Holyoke, MA 01040 | December 19, 2013 | 250142
Michigan:
Wayne (FEMA Docket No.: B-1362) | Township of Canton (13-05-6153P) | Mr. Phil LaJoy, Town of Canton Supervisor, 1150 South Canton Center Road, Canton, MI 48188 | 1150 South Canton Center Road, Canton, MI 48188 | January 13, 2014 | 260219
Midland (FEMA Docket No.: B-1362) | City of Midland Fields (13-05-3953P) | The Honorable Maureen Donker, Mayor, City of Midland Fields, 333 West Ellsworth Street, Midland, MI 48640 | 333 West Ellsworth Street, Midland, MI 48640 | February 4, 2014 | 260140
Oakland (FEMA Docket No.: B-1362) | City of Troy (13-05-4457P) | The Honorable Dan Slater, Mayor, City of Troy, 500 West Big Beaver Road, Troy, MI 48084 | 500 West Big Beaver Road, Troy, MI 48084 | January 28, 2014 | 260180
Missouri:
Franklin (FEMA Docket No.: B-1362) | City of Sullivan (13-07-0553P) | The Honorable Thomas Leasor, Mayor, City of Sullivan, 210 West Washington Street, Sullivan, MO 63080 | 209 West Washington Street, Sullivan, MO 63080 | January 9, 2014 | 290136
Franklin (FEMA Docket No.: B-1362) | City of Sullivan (13-07-0553P) | The Honorable John Griesheimer, Presiding Commissioner, Franklin County Commission, 400 East Locust Street, Suite 206, Union, MO 63084 | 8 North Church Street, Suite B, Union, MO 63084 | January 9, 2014 | 290493
St. Louis (FEMA Docket No.: B-1362) | City of Chesterfield (13-07-1008P) | The Honorable Bob Nation, Mayor, City of Chesterfield, 690 Chesterfield Parkway West, Chesterfield, MO 63017 | 690 Chesterfield Parkway West, Chesterfield, MO 63017 | December 17, 2013 | 290896
Lincoln (FEMA Docket No.: B-1362) | City of Moscow Mills (13-07-1368P) | The Honorable Andrew Teschendorf, Mayor, City of Moscow Mills, P.O. Box 36, Moscow Mills, MO 63362 | P.O. Box 36, Moscow Mills, MO 63362 | January 30, 2014 | 290546
Lincoln (FEMA Docket No.: B-1362) | Unincorporated Areas of Lincoln County (13-07-1368P) | Mr. Dan Colbert, Presiding Commissioner, Lincoln County, 201 Main Street, Troy, MO 63379 | 250 West Collage, Troy, MO 63379 | January 30, 2014 | 290869
Lincoln (FEMA Docket No.: B-1362) | City of Troy (13-07-1363P) | The Honorable March Cross, Mayor, City of Troy, 800 Cap-Au-Gris Street, Troy, MO 63379 | 800 Cap-Au-Gris Street, Troy, MO 63379 | January 30, 2014 | 290641
Lincoln (FEMA Docket No.: B-1362) | Unincorporated Areas of Lincoln County (13-07-1363P) | Mr. Dan Colbert, Presiding Commissioner, Lincoln County, 201 Main Street, Troy, MO 63379 | 250 West Collage, Troy, MO 63379 | January 30, 2014 | 290869
Minnesota:
Dakota (FEMA Docket No.: B-1362) | City of Lakeville (13-05-7174) | The Honorable Matt Little, Mayor, City of Lakeville, 20195 Holyoke Avenue, Lakeville, MN 55044 | 20195 Holyoke Avenue, Lakeville, MN 55044 | February 14, 2014 | 270107
Nebraska:
Saunders (FEMA Docket No.: B-1362) | Unincorporated Areas of Saunders County (12-07-3332P) | The Honorable Doris Karloff, Chair, Saunders County Board, 433 North Chestnut Street, Wahoo, NE 68066 | 433 North Chestnut Street, Wahoo, NE 68066 | February 14, 2014 | 310195
Saunders (FEMA Docket No.: B-1362) | City of Wahoo (12-07-3332P) | The Honorable Janet A. Jonas, Mayor, City of Wahoo, 605 North Broadway, Wahoo, NE 68066 | 605 North Broadway, Wahoo, NE 68066 | February 14, 2014 | 310204
Ohio:
Stark (FEMA Docket No.: B-1362) | City of Louisville (13-05-2237P) | The Honorable Patricia A. Fallot, Mayor, City of Louisville, 215 South Mill Street, Louisville, OH 44641 | 215 South Mill Street, Louisville, OH 44641 | March 13, 2014 | 390516
Greene (FEMA Docket No.: B-1362) | City of Beavercreek (13-05-4635P) | The Honorable Vicki Giambrone, Mayor, City of Beavercreek, 1368 Research Park Drive, Beavercreek, OH 45432 | 1368 Research Park Drive, Beavercreek, OH 45432 | January 16, 2014 | 390876
Cuyahoga (FEMA Docket No.: B-1362) | City of Middelburg Heights (13-05-5766P) | The Honorable Garry W. Starr, Mayor, City of Middleburg Heights, 15700 Bagley Road, Middleburg Heights, OH 44130 | 15700 Bagley Road, Middleburg Heights, OH 44130 | February 20, 2014 | 390117
Oregon:
Jackson (FEMA Docket No.: B-1362) | City Medford (13-10-0459P) | The Gary Wheeler, Mayor, City of Medford, 411 West 8th Street, Medford, OR 97501 | 411 West 8th Street, Medford, OR 97501 | February 11, 2014 | 410096
Benton (FEMA Docket No.: B-1362) | Unincorporated Areas of Benton County (13-10-0260P) | The Honorable Annabelle Jaramillo, Chair, Benton County Board of Commissioners, 205 Northwest 5th Street, Corvallis, OR 97333 | 408 Southwest Monroe Avenue, Suite 111, Corvallis, OR 97333 | November 29, 2013 | 410008
Benton (FEMA Docket No.: B-1362) | Unincorporated Areas Of Benton County, (13-10-0260P) | The Honorable Rocky Sloan, Mayor, City of Philomath, 980 Applegate Street, Philomath, OR 97370 | City Hall, 980 Applegate Street, Philomath, OR 97370 | November 29, 2013 | 410011
Washington: Pierce (FEMA Docket No.: B-1362) | City of Puyallup (13-10-0154P) | The Honorable Rick Hansen, Mayor, City of Puyallup, 333 South Meridian, Puyallup, WA 98371 | 333 South Meridian, Puyallup, WA 98371 | November 20, 2013 | 530144
Wisconsin:
Waukesha (FEMA Docket No.: B-1362) | Unincorporated Areas of Waukesha County, (13-05-1048P) | Mr. Dan Vrakas, Waukesha County Executive, 515 West Moreland Boulevard, Room 320, Waukesha, WI 53188 | 515 West Moreland Boulevard, Room 230, Waukesha, WI 53188 | January 7, 2014 | 550476
Brown (FEMA Docket No.: B-1362) | Village of Bellevue (13-05-5752P) | The Honorable Craig Beyl, Village President, Village of Bellevue, 2828 Allouez Avenue, Bellevue. WI 54311 | 2828 Allouez Avenue, Bellevue. WI 54311 | February 6, 2014 | 550627

(Catalog of Federal Domestic Assistance No. 97.022, “Flood Insurance.”)

Dated: March 7, 2014.
Roy E. Wright,
Deputy Associate Administrator for Mitigation, Department of Homeland Security, Federal Emergency Management Agency.

[FR Doc. 2014-06100 Filed 3-19-14; 8:45 am]

BILLING CODE 9110-12-P